DEPARTMENT OF ENERGY

Federal Energy Regulatory Commission

[ Docket Nos. P-2816-026, EL03-51-001 and EL03-215-000]

North Hartland, LLC and North Hartland, LLC v. Central Vermont Public Service Corp.; Notice of Technical Conference

December 4, 2003.

The Commission Staff will convene a technical conference to discuss issues raised in the proceedings referred to above. The conference to address these issues has been scheduled for December 16, 2003, at 10 a.m. in 92-68 at the offices of the Federal Energy Regulatory Commission, 888 First Street NE., Washington, DC 20426.

All parties to these proceedings may attend.

For further information, please contact Steven Rothenberg at steven.rothenberg@ferc.gov.

Magalie R. Salas,
Secretary.

[FR Doc. E3-00518 Filed 12-10-03; 8:45 am]

BILLING CODE 6717-01-P